DEPARTMENT OF TRANSPORTATION

Federal Motor Carrier Safety Administration

[Docket No. FMCSA-2002-12294]

Qualification of Drivers; Exemption Applications; Vision

AGENCY: Federal Motor Carrier Safety Administration (FMCSA), DOT.

ACTION: Notice of applications for exemption from the vision standard; request for comments.

SUMMARY: This notice announces the FMCSA's receipt of applications from 30 individuals for an exemption from the vision requirement in the Federal Motor Carrier Safety Regulations. If granted, the exemptions will enable these individuals to qualify as drivers of commercial motor vehicles (CMVs) in interstate commerce without meeting the vision standard prescribed in 49 CFR 391.41(b)(10).

DATES: Comments must be received on or before August 12, 2002.

ADDRESSES: You can mail or deliver comments to the U.S. Department of Transportation, Dockets Management Facility, Room PL-401, 400 Seventh Street, SW., Washington, DC 20590-0001. You can also submit comments and see the submissions of other commenters at http://dms.dot.gov. Please include the docket number that appears in the heading of this document. You can examine and copy this document and all comments received at the same Internet address or at the Dockets Management Facility from 9 a.m. to 5 p.m., e.t., Monday through Friday, except Federal holidays. If you want to know that we received your comments, please include a self-addressed, stamped postcard or include a copy of the acknowledgement page that appears after you submit comments electronically.

FOR FURTHER INFORMATION CONTACT: For information about the vision exemptions in this notice, Ms. Sandra Zywokarte, Office of Bus and Truck Standards and Operations, (202) 366-2987, FMCSA, Department of Transportation, 400 Seventh Street, SW., Washington, DC 20590-0001. Office hours are from 7:45 a.m. to 4:15 p.m., e.t., Monday through Friday, except Federal holidays.

SUPPLEMENTARY INFORMATION:

Electronic Access and Filing

You may see all the comments online through the Document Management System (DMS) at: http://dmses.dot.gov/submit.

Background

Thirty individuals have requested an exemption from the vision requirement in 49 CFR 391.41(b)(10), which applies to drivers of CMVs in interstate commerce. Under 49 U.S.C. 31315 and 31136(e), the FMCSA may grant an exemption for a 2-year period if it finds “such exemption would likely achieve a level of safety that is equivalent to, or greater than, the level that would be achieved absent such exemption.” The statute also allows the agency to renew exemptions at the end of the 2-year period. Accordingly, the agency will evaluate the qualifications of each applicant to determine whether granting the exemptions will achieve the required level of safety.

Qualifications of Applicants

1. Danny Adams

Mr. Adams, age 44, has finger-counting vision in his right eye due to childhood trauma. The best-corrected visual acuity in his left eye is 20/20. An optometrist examined him in 2001 and certified, “This patient has sufficient vision to perform the driving tasks required to operate a commercial vehicle.” Mr. Adams reported that he has driven straight trucks for 27 years, accumulating 157,000 miles. He holds a Class A commercial driver's license (CDL) from South Carolina, and his driving record for the last 3 years shows no accidents or convictions for moving violations in a CMV.

2. Michael D. Armstrong

Mr. Armstrong, 52, has amblyopia in his right eye. His best-corrected vision is 20/50 in the right eye and 20/20 in the left. Following an examination in 2001, his optometrist certified, “It is my opinion that his vision is sufficient to operate a commercial vehicle.” Mr. Armstrong reported that he has driven tractor-trailer combinations for 9 years, accumulating 900,000 miles. He holds a Class A CDL from Florida, and his driving record shows no accidents or convictions for traffic violations in a CMV for the last 3 years.

3. Thomas E. Barnhart

Mr. Barnhart, 53, has amblyopia in his left eye. His best-corrected visual acuity is 20/20 in the right eye and 20/400 in the left. His optometrist examined him in 2001 and certified, “In my medical opinion Thomas Barnhart has sufficient vision to perform the driving tasks required to operate a commercial vehicle.” Mr. Barnhart submitted that he has driven straight trucks for 10 years, accumulating 400,000 miles. He holds a Chauffeur's License from Indiana, and there are no CMV accidents or convictions for moving violations on his driving record for the last 3 years.

4. William J. Bell

Mr. Bell, 33, underwent cataract surgery on his right eye in childhood. The best-corrected visual acuity of his right eye is 20/200 and of his left eye 20/25. His ophthalmologist examined him in 2002 and stated, “In summary, based on my understanding of his continuously satisfactory driving record, repeated visual field examinations indicating a horizontal field of at least 150 degrees, and his recorded binocular visual acuity of 20/25, I believe that he has ‘sufficient vision to perform the driving tasks required to operate a commercial vehicle.’ ” Mr. Bell reported that he has driven straight trucks for 3 years, accumulating 27,000 miles. He holds a Class C Maryland driver's license, and his driving record for the last 3 years shows no accidents or convictions for moving violations in a CMV.

5. Frank R. Berritto

Mr. Berritto, 62, has amblyopia in his right eye. His best-corrected visual acuity is 20/200 in the right eye and 20/20 in the left. Following an examination in 2002, his ophthalmologist certified, “Mr. Berrito's condition is stable, and in my medical opinion, he has sufficient vision necessary for driving his commercial vehicle.” Mr. Berritto submitted that he has driven buses for 3 years, accumulating 42,000 miles. He holds a Class C CDL from New York, and his driving record shows he has had no accidents or convictions for moving violations in a CMV in the last 3 years.

6. Robert B. Brewer, Jr.

Mr. Brewer, 63, has a dislocated lens in his right eye due to trauma in 1982. His best-corrected visual acuity is 20/60 in the right eye and 20/20 in the left. An ophthalmologist examined him in 2001 and stated, “In my medical opinion, Mr. Brewer has sufficient vision to perform the driving tasks required to operate a commercial vehicle.” According to Mr. Brewer's application, he has driven straight trucks for 10 years, accumulating 125,000 miles, and tractor-trailer combinations for 10 years, accumulating 862,500 miles. He holds a Class A CDL from Montana, and, according to his driving record, he has had no accidents or convictions for moving violations in a CMV in the last 3 years.

7. Jack D. Clodfelter

Mr. Clodfelter, 66, experienced an ischemic attack in his right eye in 1998. His aided visual acuity in the right eye is 20/80 and in the left 20/20. An optometrist examined him in 2001 and certified, “It is my opinion that Mr. Clodfelter has sufficient vision to perform the driving tasks required while operating a commercial vehicle.” In his application, Mr. Clodfelter stated he has 21 years and 2.6 million miles of experience in operating tractor-trailer combinations. He holds a North Carolina Class A driver's license currently, but at the time of his application he held a Class A CDL, now expired. There are no accidents or convictions for moving violations in a CMV on his record for the last 3 years.

8. James W. Collins

Mr. Collins, 38, has amblyopia in his right eye. His best-corrected vision in the right eye is 20/100 and in the left, 20/20. An ophthalmologist examined him in 2002 and certified, “In my opinion, Mr. Collins' vision is sufficient to perform the driving tasks required to operate a commercial vehicle.” Mr. Collins submitted that he has driven straight trucks for 5 years, accumulating 41,000 miles. He holds a Class B CDL from Illinois, and there are no accidents or convictions for moving violations in a CMV on his driving record for the last 3 years.

9. Douglas W. Cotney

Mr. Cotney, 55, had a choroidal rupture in his right eye due to trauma in 1972. His visual acuity is 20/400 in the right eye and 20/20 in the left. Following an examination in 2002, his optometrist stated, “It is my medical opinion that Mr. Cotney has sufficient vision to perform the driving tasks required to operate a commercial vehicle just as he has done for the past 30 years.” Mr. Cotney reported that he has 35 years and 472,000 miles of experience in driving straight trucks. He holds a Class DMV driver's license from Alabama, and there are no accidents or convictions for moving violations in a CMV on his driving record for the last 3 years.

10. Tommy J. Cross, Jr.

Mr. Cross, 21, has an aphakic right eye due to congenital cataract extraction in childhood. His best-corrected visual acuity is counting fingers in the right eye and 20/20 in the left. An optometrist who examined him in 2001 certified, “In my professional medical opinion, Mr. Tommy J. Cross, Jr. has sufficient vision to safely perform the driving tasks necessary to operate a commercial vehicle.” Mr. Cross reported that he has driven straight trucks for 3 years, accumulating 85,000 miles, and tractor-trailer combination vehicles for 2 years, accumulating 125,000 miles. He holds a Class A CDL from Tennessee. His driving record for the last 3 years shows no accidents or convictions for moving violations in a CMV.

11. Daniel K. Davis III

Mr. Davis, 43, has an aphakic left eye due to trauma in 1980. His best-corrected vision is 20/20 in the right eye and 20/800 in the left. An optometrist who examined him in 2002 noted that Mr. Davis would be applying for a CDL and certified, “In my medical opinion, Mr. Davis has sufficient vision to perform the driving tasks required.” Mr. Davis reported that he has operated straight trucks for 20 years, accumulating 400,000 miles. He holds a Class DM driver's license from Massachusetts. His driving record for the last 3 years shows he has had no accidents and one conviction for a moving violation—Speeding—in a CMV. He exceeded the speed limit by 14 mph.

12. Eric D. Davis

Mr. Davis, 41, lost his right eye due to trauma at age 12. His visual acuity is 20/15 in the left eye. An ophthalmologist examined him in 2001 and certified, “Eric has sufficient vision to be able to drive a commercial truck.” Mr. Davis stated that he has driven straight trucks for 22 years, accumulating 462,000 miles, and tractor-trailer combinations for 4 years, accumulating 300,000 miles. He holds an Ohio Class A CDL, and his driving record for the last 3 years shows no accidents or convictions for moving violations in a CMV.

13. Gary R. Evans

Mr. Evans' left eye was removed during childhood secondary to complications of a congenital cataract. His best-corrected visual acuity is 20/40 in the right eye. His ophthalmologist examined him in 2002 and certified, “In my opinion, he does have sufficient vision to perform driving tasks associated with operating a commercial vehicle.” In his application, Mr. Evans, age 47, reported that he has driven straight trucks for 18 years, accumulating 369,000 miles. He holds a Connecticut Class 2 driver's license, and there are no accidents or convictions for moving violations in a CMV on his driving record for the last 3 years.

14. Shelton L. Harvey

Mr. Harvey, 57, has had a macular hole in his left eye due to trauma since 1988. His best-corrected visual acuity is 20/20 in the right eye and 20/150 in the left. Following an examination in 2002, his optometrist certified, “In my medical opinion Mr. Harvey has sufficient vision to perform the driving tasks required to operate a commercial vehicle.” According to his application, Mr. Harvey has operated tractor-trailer combinations for 9 years, accumulating 540,000 miles. He holds a Georgia Class C driver's license currently, but at the time of his application he held a Class A CDL, now expired. His driving record for the last 3 years shows that he had no accidents and one conviction for a moving violation—Speeding—in a CMV. He exceeded the speed limit by 17 mph.

15. Gary T. Hicks

Mr. Hicks, 42, has amblyopia in his right eye. His best-corrected visual acuity is 20/50 in the right eye and 20/20 in the left. Following an examination in 2002, his ophthalmologist commented, “Mr. Hicks has stable amblyopia in the right eye. He also has full visual fields in each eye. It is my opinion that he will be able to continue his occupation as a commercial vehicle operator.” Mr. Hicks submitted that he has driven straight trucks for 25 years, accumulating 875,000 miles, tractor-trailer combinations for 10 years, accumulating 10,000 miles, and buses for 1 year, accumulating 2,000 miles. He holds a Class A CDL from North Carolina, and his driving record shows he has had no accidents or convictions for moving violations in a CMV during the last 3 years.

16. Walter R. Morris

Mr. Morris, 58, has been aphakic in the left eye since age 8 due to trauma. His best-corrected vision is 20/15 in the right eye and counting fingers in the left. An ophthalmologist examined him in 2001 and stated, “He has sufficient vision to drive a commercial vehicle without prescription eyeglasses.” Mr. Morris, who holds a Class A CDL from New Jersey, reported that he has been driving tractor-trailer combination vehicles for 40 years, accumulating 2.6 million miles. His driving record shows he has had no accidents or convictions for traffic violations in a CMV during the last 3 years.

17. Barbara C. Pennington

Ms. Pennington, 38, has been blind in the right eye since 1991 due to an accident. She has best-corrected visual acuity of 20/30 in the left eye. Following an examination in 2001, her ophthalmologist stated, “Patient has good vision in left eye to operate a commercial vehicle.” Ms. Pennington submitted that she has driven tractor-trailer combinations for 8 years, accumulating 650,000 miles. She holds a Florida Class A CDL, and her driving record shows that during the last 3 years she has had no accidents or convictions for moving violations in a CMV.

18. Stephen C. Perdue

Mr. Perdue, 58, has been blind in the left eye since 1970 due to a retinal detachment. His corrected visual acuity in the right eye is 20/25+. Following an examination in 2002, his ophthalmologist stated, “It is my opinion once again that this patient has sufficient vision to perform the driving tasks required to operate a commercial vehicle.” Mr. Perdue reported that he has driven straight trucks for 2 years, accumulating 200,000 miles, and tractor-trailer combinations for 36 years, accumulating 3.9 million miles. He holds a Class A CDL from North Carolina. His driving record shows he has had one accident and no convictions for moving violations in a CMV over the last 3 years. According to the police report, the accident occurred in a construction zone where the lane shifts were poorly marked and some of the old markings were still visible. The police report indicated that the driver of the other vehicle followed the old markings, causing his trailer to veer into the lane occupied by Mr. Perdue's vehicle. Neither driver was cited.

19. Allen V. Pickard

Mr. Pickard, 43, has a macular scar in his left eye due to an injury in 1996. His visual acuity is 20/20 in the right eye and 20/120 not correctable in the left. An optometrist who examined him in 2001 certified, “I do believe that Mr. Pickard has adequate vision to safely operate a commercial motor vehicle.” Mr. Pickard submitted that he has operated straight trucks for 27 years, accumulating 135,000 miles, and tractor-trailer combinations for 12 years, accumulating 600,000 miles. He holds a Class A CDL from South Dakota, and his driving record shows he has had no accidents or convictions for traffic violations in a CMV for the last 3 years.

20. Larry A. Priewe

Mr. Priewe, 44, lost his left eye due to an injury 38 years ago. His visual acuity is 20/15 corrected in the right eye. An ophthalmologist examined him in 2001 and certified, “In my medical opinion, you have sufficient vision to perform the driving tasks required to operate a commercial vehicle.” Mr. Priewe submitted that he has driven tractor-trailer combinations for 23 years, accumulating 2.1 million miles. He holds a Class AM CDL from North Dakota. His driving record for the past 3 years shows one accident and no convictions for moving violations in a CMV. According to the police report, Mr. Priewe's vehicle was stuck in a snowdrift and partially on the roadway during a blowing snowstorm, and he was unable to put out his flares due to his compartment being blocked by snow. Another vehicle coming over a hillcrest struck the rear of his vehicle. Neither driver was cited.

21. Gary L. Reveal

Mr. Reveal, 56, has been blind in his right eye since birth due to optic nerve damage. His best-corrected vision is 20/15 in the left eye. An optometrist examined him in 2001 and stated, “He does have sufficient vision to perform the driving tasks required to operate a commercial vehicle.” Mr. Reveal reported he has driven straight trucks for 36 years, accumulating 1.1 million miles, and tractor-trailer combinations for 17 years, accumulating 340,000 miles. He holds an Ohio Class A CDL. His driving record shows that he has had one accident and no convictions for moving violations in a CMV for the past 3 years. As indicated by the police report, Mr. Reveal was stopped to back into a private driveway while a second vehicle behind him was stopped to let him proceed. The second vehicle was struck by a third vehicle and pushed into Mr. Reveal's vehicle. The driver of the third vehicle was charged with “Following Too Closely.” Mr. Reveal was not charged.

22. Billy L. Riddle

Mr. Riddle, 45, has amblyopia in his left eye. He has 20/15 vision in the right eye and 20/160 in the left. Following an examination in 2002, his optometrist certified, “Patient has sufficient vision to drive a commercial vehicle.” Mr. Riddle submitted that he has driven straight trucks and tractor-trailer combinations for 19 years, accumulating 380,000 miles in the former and 950,000 miles in the latter. He holds a Class A CDL from Texas, and his driving record for the last 3 years shows no accidents or convictions for traffic violations in a CMV.

23. Randolph L. Rosewicz

Mr. Rosewicz, 49, lost his left eye at age 3 due to congenital glaucoma. His best-corrected visual acuity is 20/20 in the right eye. An ophthalmologist examined him in 2002, and commented, “With the stability noted I believe that the patient has sufficient vision to perform the driving tasks required to operate a commercial vehicle.” Mr. Rosewicz submitted that he has 17 years and 255,000 miles of experience in operating straight trucks. He holds a Class ABCDM CDL from Wisconsin, and his driving record shows that he has had no accidents or convictions for moving violations in a CMV for the last 3 years.

24. Robert L. Savage

Mr. Savage, 68, has had a macular scar in his left eye since 1946. His best-corrected vision is 20/20 in the right eye and 20/80 in the left. His ophthalmologist examined him in 2001 and certified, “He functions commensurate with safe operation of a commercial vehicle, with vision sufficient.” In his application, Mr. Savage indicated he has driven tractor-trailer combinations for 3 years, accumulating 21,000 miles. He holds a Class A CDL from Texas, and his driving record for the past 3 years shows no accidents or convictions for traffic violations in a CMV.

25. Kenneth D. Sisk

Mr. Sisk, 33, has amblyopia in his left eye. His best-corrected visual acuity is 20/20 in the right eye and 20/300 in the left. Following an examination in 2002, his optometrist certified, “I do not see any problem with him operating a commercial vehicle, especially since he has been driving about 17 years with no problems and seems to compensate well for the lack of acuity in the left eye.” Mr. Sisk reported that he has operated straight trucks for 6 years, accumulating 225,000 miles, and tractor-trailer combinations for 6 years, accumulating 60,000 miles. He holds a Class A CDL from North Carolina, and his driving record for the past 3 years shows no accidents or convictions for traffic violations in a CMV.

26. Kenneth E. Suter, Jr.

Mr. Suter, 38, has amblyopia in his left eye. His best-corrected visual acuity is 20/15 in the right eye and 20/200+ in the left. Following an examination in 2002, his optometrist affirmed, “Based on this vision examination, I feel you have sufficient vision to operate a commercial vehicle as you have done so safely in the past.” Mr. Suter holds a Class A CDL from Ohio, and reported that he has driven straight trucks for 15 years, accumulating 675,000 miles, and tractor-trailer combinations for 6 years, accumulating 30,000 miles. His driving record shows no accidents or convictions for moving violations in a CMV for the past 3 years.

27. Patrick D. Talley

Mr. Talley, 36, has a macular scar in his right eye due to histoplasmosis in childhood. His best-corrected visual acuity is 20/50 in the right eye and 20/20 in the left. Following an examination in 2002, his optometrist certified, “In my medical opinion, he does have sufficient vision to perform the driving tasks required to operate a commercial vehicle.” Mr. Talley reported that he has operated straight trucks for 14 years, accumulating 318,000 miles. He holds a Class DM driver's license from South Carolina, and his driving record for the last 3 years shows no accidents or convictions for moving violations in a CMV.

28. Loren R. Walker

Mr. Walker, 60, experienced an ischemic attack in his left eye in 1975. His best-corrected vision is 20/20 in the right eye and 20/200 in the left. Following an examination in 2001, his ophthalmologist certified, “In my opinion, this individual has adequate vision to continue driving a commercial vehicle as he has been for the past 30 years.” Mr. Walker submitted that he has operated straight trucks for 5 years, accumulating 55,000 miles, and tractor-trailer combinations for 9 years, accumulating 816,000 miles. He holds a Class A CDL from Idaho. He has had no accidents and one conviction for a traffic violation—Using the Second Lane of a Three-Lane Highway—in a CMV for the last 3 years, according to his driving record.

29. Edward C. Williams

Mr. Williams, 51, has had a macular hole in his left eye since 1992. His best-corrected visual acuity is 20/20 in the right eye and 20/200 in the left. An optometrist examined him in 2001 and certified, “Mr. Williams' vision is adequate to operate a commercial vehicle.” Mr. Williams submitted that he has driven straight trucks and tractor-trailer combinations for 24 years, accumulating 1.3 million miles in the former and 660,000 miles in the latter. He holds a Class AM CDL from Alabama. His driving record for the last 3 years shows he has had two accidents and no convictions while operating a CMV. According to the police report for the first accident, an oncoming vehicle that crossed the centerline while attempting to pass collided with Mr. Williams' vehicle. According to the police report for the second accident, Mr. Williams was driving a wrecker towing a vehicle when the towed vehicle incurred a flat tire, causing it to hit a bridge. Mr. Williams was not cited in either accident.

30. Timothy J. Wilson

Mr. Wilson, 47, is blind in the right eye due to an injury in 1965. His visual acuity is 20/20 in the left eye. Following an examination in 2001, his optometrist certified, “In my medical opinion, Mr. Wilson has sufficient vision to safely perform the driving tasks required to operate a commercial vehicle.” In his application, Mr. Wilson indicated he has driven straight trucks for 5 years, accumulating 15,000 miles, and tractor-trailer combinations for 25 years, accumulating 500,000 miles. He holds a Class AM CDL from Maryland, and his driving record for the last 3 years shows no accidents or convictions for moving violations in a CMV.

Request for Comments

In accordance with 49 U.S.C. 31315 and 31136(e), the FMCSA is requesting public comment from all interested persons on the exemption petitions and the matters discussed in this notice. All comments received before the close of business on the closing date indicated above will be considered and will be available for examination in the docket room at the above address.

Issued on: July 2, 2002.
Pamela M. Pelcovits,
Acting Associate Administrator, Policy and Program Development.

[FR Doc. 02-17098 Filed 7-10-02; 8:45 am]

BILLING CODE 4910-EX-P